NUCLEAR REGULATORY COMMISSION

Advisory Committee on the Medical Uses of Isotopes: Meeting Notice

AGENCY: Nuclear Regulatory Commission.

ACTION: Notice of meeting.

SUMMARY: The U.S. Nuclear Regulatory Commission (NRC) will convene a teleconference meeting of the Advisory Committee on the Medical Uses of Isotopes (ACMUI) on February 26, 2019, to discuss the draft report of the ACMUI Training and Experience Subcommittee. This report will include the subcommittee's recommendation on training and experience requirements for authorized users under title 10 Code of Federal Regulations (10 CFR) 35.300, “Use of unsealed byproduct material for which a written directive is required,” that is necessary for safety. Meeting information, including a copy of the agenda and handouts, will be available at http://www.nrc.gov/reading-rm/doc-collections/acmui/meetings/2019.html. The agenda and handouts may also be obtained by contacting Ms. Kellee Jamerson using the information below.

DATES: The teleconference meeting will be held on Tuesday, February 26, 2019, 10:00 a.m. to 12:00 p.m. Eastern Time.

FOR FURTHER INFORMATION CONTACT: Any member of the public who wishes to participate in the teleconference should contact Ms. Jamerson using the contact information below or may register for the GoToWebinar at https://register.gotowebinar.com/register/3062144677756975362 for the February 26, 2019, meeting.

Contact Information: Kellee Jamerson, email: Kellee.Jamerson@nrc.gov, telephone: (301) 415-7408.

SUPPLEMENTARY INFORMATION:

Conduct of the Meeting

Dr. Christopher Palestro, ACMUI Chairman, will preside over the meeting. Dr. Palestro will conduct the meeting in a manner that will facilitate the orderly conduct of business. The following procedures apply to public participation in the meeting:

1. Persons who wish to provide a written statement should submit an electronic copy to Ms. Jamerson at the contact information listed above. All submittals must be received by February 21, 2019, 3 business days prior to the February 26, 2019, meeting, and must pertain to the topic on the agenda for the meeting.

2. Questions and comments from members of the public will be permitted during the meeting at the discretion of the Chairman.

3. The draft transcript and meeting summary will be available on ACMUI's website http://www.nrc.gov/reading-rm/doc-collections/acmui/meetings/2019.html on or about April 9, 2019.

This meeting will be held in accordance with the Atomic Energy Act of 1954, as amended (primarily Section 161a); the Federal Advisory Committee Act (5 U.S.C. App); and the Commission's regulations in 10 CFR part 7.

Dated: January 30, 2019.
Russell E. Chazell,
Federal Advisory Committee Management Officer.

[FR Doc. 2019-00908 Filed 2-1-19; 8:45 am]

BILLING CODE 7590-01-P